ENVIRONMENTAL PROTECTION AGENCY

40 CFR Part 52

[EPA-R04-OAR-2007-0113-200709(a); FRL-9098-5]

Approval and Promulgation of Implementation Plans Georgia: State Implementation Plan Revision

AGENCY: Environmental Protection Agency (EPA)

ACTION: Direct final rule.

SUMMARY: EPA is taking direct final action to approve revisions to the Georgia State Implementation Plan (SIP), submitted by the Georgia Environmental Protection Division (GA EPD) on September 26, 2006, with a clarifying revision submitted on November 6, 2006. The revisions include multiple modifications to Georgia's Air Quality Rules found at Chapter 391-3-1. These revisions are part of Georgia's strategy to meet the national ambient air quality standards (NAAQS). The revisions include, but are not limited to, changes to Chapters such as “Definitions;” “Emissions Limitations and Standards;” “Open Burning;” “Exemptions;” “Permits;” and “Regulatory Exceptions.” EPA is approving Georgia's SIP revisions pursuant to section 110 of the Clean Air Act (CAA).

EPA is not acting on revisions to rules 391-3-1-.01(qqqq), 391-3-1-.02(2)(zz), 391-3-1-.02(2)(mmm), 391-3-1-.02(6)(a), 391-3-1-.03(6)(g), and 391-3-1-.03(6)(i) at this time. EPA is also not acting on revisions to rule 391-3-1-02(2)(ooo), as Georgia has submitted a revised version of the rule. Additionally, we are not acting on several revisions to the September 26, 2006, SIP submittal, that are not part of the federally approved SIP.

DATES: This direct final rule is effective April 12, 2010 without further notice, unless EPA receives adverse comment by March 11, 2010. If EPA receives such comments, it will publish a timely withdrawal of the direct final rule in the Federal Register and inform the public that the rule will not take effect.

ADDRESSES: Submit your comments, identified by Docket ID Number, “EPA-R04-OAR-2007-0113,” by one of the following methods:

1. http://www.regulations.gov: Follow the on-line instructions for submitting comments.

2. E-mail: benjamin.lynorae@epa.gov.

3. Fax: 404-562-9019.

4. Mail: “EPA-R04-OAR-2007-0113,” Regulatory Development Section, Air Planning Branch, Air, Pesticides and Toxics Management Division, U.S. Environmental Protection Agency, Region 4, 61 Forsyth Street, SW., Atlanta, Georgia 30303-8960.

5. Hand Delivery or Courier: Ms. Lynorae Benjamin, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 a.m. to 4:30 p.m., excluding federal holidays.

Instructions: Direct your comments to Docket ID Number, “EPA-R04-OAR-2007-0113.” EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center home page at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding federal holidays.

FOR FURTHER INFORMATION CONTACT: Stacy Harder, Regulatory Development Section, Air Planning Branch, Air, Pesticides and Toxics Management Division, U.S. Environmental Protection Agency, Region 4, 61 Forsyth Street, SW., Atlanta, Georgia 30303-8960. The telephone number is (404) 562-9042. Ms. Harder can also be reached via electronic mail at harder.stacy@epa.gov.

Table of Contents

I. Background

II. Summary of Action

III. Final Action

IV. Statutory and Executive Order Reviews

SUPPLEMENTARY INFORMATION:

I. Background

On September 26, 2006, with a clarifying revision submitted on November 6, 2006, GA EPD submitted proposed SIP revisions to EPA for review and approval into the Georgia SIP. The revisions include the following changes made by the State of Georgia to its Air Quality Rules, found at Chapter 391-3-1. The changes that were made to update Georgia's regulations include, but are not limited to, “Definitions;” “Emissions Limitations and Standards;” “Open Burning;” “Exemptions;” “Permits;” and “Regulatory Exceptions.” The changes are discussed below.

EPA is not acting on revisions to rules 391-3-1-.01(qqqq), 391-3-1-.02(2)(zz), 391-3-1-.02(2)(mmm), 391-3-1-.02(6)(a), 391-3-1-.03(6)(g), and 391-3-1-.03(6)(i) at this time. EPA is also not acting on revisions to rule 391-3-1-02(2)(ooo), as Georgia has submitted a revised version of the rule. Additionally, we are not acting on revisions to rules 391-3-1-.02(ppp), 391-3-1-.02(8)(a), 391-3-1-.02(9), 391-3-1-.03(9), 391-3-1-.03(10)(b)2, 391-3-1-.03(10)(e)(6), and 391-3-1-.03(10)(g)2, as they are not part of the federally approved SIP.

II. Summary of Action

Rule 391-3-1-.01 “Definitions”

1. 391-3-1-.01(llll) “Volatile Organic Compound”

Georgia is amending its definition of volatile organic compounds (VOC) by inserting five additional compounds in the list of compounds excluded from the definition of VOC. GA EPD is taking an action that was similarly approved by the EPA on November 29, 2004 (69 FR 69298). The revision adds the five compounds to the list of those excluded from the definition of VOC, on the basis that they make a negligible contribution to ozone formation.

EPA's policy is that compounds of carbon with a negligible level of reactivity need not be regulated to reduce ozone (42 FR 35314, July 8, 1977). EPA determines whether a given carbon compound has “negligible” reactivity by comparing the compound's reactivity to the reactivity of ethane. EPA lists these compounds in its regulations at 40 CFR 51.100(s), and excludes them from the definition of VOC. The chemicals on this list are often called “negligibly reactive.” EPA may periodically revise the list of negligibly reactive compounds to add compounds to or delete them from the list.

The revision updates Georgia's definition of VOC, to be consistent with the Federal definition of VOC, by adding: 1,1,1,2,2,3,3-heptafluoro-3-methoxy-propane (n-C3F7OCH3) (known as HFE-7000); 3-ethoxy-1,1,1,2,3,4,4,5,5,6,6,6-dodecafluro-2-(trifluoromethyl) hexane (known as HFE-7500); 1,1,1,2,3,3,3-heptafluoropropane (known as HFC-227ea); methyl formate (HCOOOCH3); and t-butyl acetate to its list of compounds excluded from the definition of VOC. We are approving this rule to maintain consistency with the Federal definition of VOC, pursuant to Section 110 of the CAA. This rule change became State effective on July 20, 2005.

2. 391-3-1-.01(nnnn) “Procedures for Testing and Monitoring Sources of Air Pollutants”

Georgia is amending the effective date to the definition of “Procedures for Testing and Monitoring Sources of Air Pollutants” to reflect the current version, dated January 1, 2006. The purpose of the document is to identify those procedures used for the purposes of testing and monitoring air pollutant sources. This revision is approvable because it merely updates a definition in the “Definitions” section of Georgia's rule, and is consistent with Section 110 of the CAA. This revision became State effective on July 13, 2006.

Rule 391-3-1-.02 “Provisions”

1. 391-3-1-.02(2) “Emission Standards”

a. 391-3-1-.02(2)(d) “Fuel-Burning Equipment”

Georgia is amending subparagraphs 1(ii) and 2(ii), relating to “Fuel Burning Equipment,” to correct the existing rule. The revision clarifies the existing rule language regarding applicability for boiler sizes. The language previously read “for equipment equal to or greater than 10 million BTU heat input per hour, or equal to or less than 2,000 million BTU heat input per hour * * *” The intent of the rule is for the limit in subparagraph (2)(d)1(ii) to apply to equipment with both a heat input of greater than or equal to 10 Million British thermal units per hour (MMBtu/hr) and less than or equal to 2,000 MMBtu/hr constructed on or before January 1, 1972. Similarly, subparagraph 2(d)2(ii) will be limited to apply to boiler sizes equal to or greater than 10 MMBtu/hr, and (rather than or) equal to or less than 250 MMBtu/hr, constructed after January 1, 1972. EPA is approving this revision to correct an inadvertent error by revising the language in this subparagraph, consistent with Section 110 of the CAA. The revision became State effective on July 20, 2005.

b. 391-3-1-.02(2)(tt) “VOC Emissions From Major Sources”

Georgia is amending paragraph (2), titled “Emission Limitations and Standards,” subparagraph (tt), relating to “VOC Emissions from Major Sources,” by adding new subparagraphs (tt)6 and (tt)7, relating to Reasonable Available Control Technology (RACT) demonstrations.

The revised rule requires Georgia to issue a public notice to allow the public an opportunity for comment, for any RACT demonstration approved pursuant to this subsection of Georgia's regulation, relating to VOC emission from major sources. The revision will also require GA EPD to submit all approved RACT determinations to EPA as a SIP revision. EPA is approving this revision to be consistent with Section 110 of the CAA, as it allows the public an opportunity to comment on, and requires EPA approval of, any RACT demonstration or revision to a RACT demonstration. This revision became State effective January 9, 2005.

c. 391-3-1-.02(2)(yy) “Emissions of Nitrogen Oxides From Major Sources”

Georgia is amending paragraph (2), titled “Emission Limitations and Standards,” subparagraph (yy), relating to “Emissions of Nitrogen Oxides from Major Sources,” by adding new subparagraphs (yy)7 and (yy)8.

The revised rule requires Georgia to issue public notice and provide an opportunity for public comment for RACT determinations approved pursuant to this subsection of Georgia's regulation, relating to nitrogen oxides (NOX) emissions from major sources. The revision also states that Georgia will submit any modifications or changes to the approved RACT demonstrations to EPA as a revision to the SIP. EPA is approving this revision to be consistent with Section 110 of the CAA, as it allows the public an opportunity to comment on, and requires EPA approval of, any RACT demonstration or revision to a RACT demonstration. This revision became State effective on January 9, 2005.

d. 391-3-1-.02(2)(rrr) “NOX Emissions from Small Fuel-Burning Equipment”

Georgia is adding a new rule (rrr), titled “NOX Emissions from Small Fuel-Burning Equipment” to Chapter 391-3-1-.02(2) “Emission Limitations and Standards.” This new rule establishes new RACT requirements for sources emitting NOX emissions in excess of one ton per year (tpy), or 25 tpy in the Atlanta 1-hour ozone nonattainment area (or “Atlanta Area”). This was a result of the January 1, 2004, reclassification (68 FR 55469, September 26, 2003) of the Atlanta 1-hour ozone nonattainment area from “serious” to “severe.” Subparagraph 1 explains the requirements for performing an annual tune-up and documentation of the maintenance records. It also requires that only natural gas be used during the months of May through September. An affected unit is exempt from the requirements of subparagraph 1, provided the owner or operator submits the documentation specified in the facility's permit confirming the unit will not be operated during the months of May through September. The Atlanta Area is currently nonattainment for the 1997 8-hour ozone standard, therefore, these requirements continue to apply to the Atlanta Area in accordance with anti backsliding provisions set forth in the CAA. EPA is approving these revisions consistent with Section 110 of the CAA. These revisions became State effective on January 9, 2005, and March 27, 2006.

2. 391-3-1-.02(4) “Ambient Air Standards”

Georgia is amending subparagraph (4)(b)4, relating to sulfur dioxide, to correct an error in the standard condition for temperature. The revision changes the standard condition in subparagraph 4 to read as 25 degrees Celsius, rather than 26 degrees. This revision became State effective on July 20, 2005. Georgia is also amending paragraph (4), subparagraphs (4)(c) and (e), relating to particulate matter and ozone, respectively. The revisions remove the outdated air quality standards, and update the rules to reflect the 1997 NAAQS for these pollutants. (July 18, 1997, 62 FR 38652). The 1997 standard was set at 50 micrograms per cubic meter (µg/m³) for PM10. The 1997 standards for 24-hour PM2.5 and annual PM2.5 were set at 65 µg/m³ and 15 µg/m³, respectively. This revision is being approved to maintain consistency with the current NAAQS under Section 110 of the CAA at the time the submission was provided to EPA. This revision became State effective on January 9, 2005.

3. Rule 391-3-1-.02(5) “Open Burning”

Georgia is amending paragraph (5) relating to “Open Burning.” The revision deletes the definition of “slash burning,” and revises the definition of “prescribed burning” to be consistent with the Georgia Prescribed Burning Act. What was previously considered “slash burning” is now included in the definition for “prescribed burning.” Georgia is also revising subparagraph (b)2 to add the counties of Bibb, Catoosa, Columbia, Crawford, Houston, Peach, Richmond, Twiggs, and Walker to those that have open burning restrictions. Additionally, Georgia is adding language to subparagraph (5)(e), to require Federal facilities not mandated to obtain burn permits from the Georgia Forestry Commission, to institute measures to ensure prescribed burning is not conducted during the months of May through September. EPA is approving these revisions to clarify language, as well as to be consistent with the counties that are part of the current 1997 8-hour ozone nonattainment area, pursuant to Section 110 of the CAA. This revision became State effective on July 13, 2006.

Rule 391-3-1-.03 “Permits”

1. 391-3-1-.03(6) “Exemptions”

a. 391-3-1-.03(6)(b) “Combustion Equipment”

Georgia is revising subparagraph (6)(b)8 to correct a typographical error in the combustion equipment exemption for air curtain incinerators used for land clearing at a construction site, which became State effective on April 19, 2006. Georgia is also revising subparagraph (6)(b)11, to clarify language relating to emergency generators used for peaking power. EPA is approving this revision, to clarify language, under Section 110 of the CAA. This rule became State effective on July 13, 2006.

The State is also changing the permit exemption requirements in subparagraph (6)(b)11 for stationary engines used for emergency generation, located within 45 north Georgia counties, such that only engines with a rated capacity of less than 100 kilowatts shall be exempt, rather than the previous exemption at 300 kilowatts and below. This rule became State effective on March 27, 2006.

Additionally, Georgia is revising paragraph (6), subparagraph (b)11(v)(I). The revision modifies the definition of “emergency generator” which states the generator may provide back-up power when power from the local utility is interrupted, and which operates for less than 500 hours-per-year, by adding the counties of Banks, Barrow, Bartow, Butts, Carroll, Chattanooga, Cherokee, Clarke, Clayton, Cobb, Coweta, Dawson, Dekalb, Douglas, Fayette, Floyd, Forsyth, Fulton, Gordon, Gwinnett, Hall, Haralson, Heard, Henry, Jackson, Jasper, Jones, Lamar, Lumpkin, Madison, Meriwether, Monroe, Morgan, Newton, Oconee, Paulding, Pickens, Pike, Polk, Putnam, Rockdale, Spalding, Troup, Upson, and Walton, where such generators may only operate less than 200 hours-per-year. The additional counties are part of the current 1997 8-hour ozone nonattainment area. Therefore, this revision is being approved, consistent with maintenance of the NAAQS, under Section 110 of the CAA. This rule became State effective on March 27, 2006.

Finally, Georgia is adding new subparagraphs (6)(b)14 and (6)(b)15. These paragraphs exempt temporary stationary sources that install boilers and electric generators to replace the source's primary boiler or generator during periods of maintenance or repair, from obtaining a permit for the temporary equipment. Actual and potential emissions of the temporary sources must not exceed that of the main source, and temporary fuel-burning equipment may not remain at a location for longer than 180 consecutive days. EPA is approving the revised permit exemptions as actual and potential emissions of the temporary source may not exceed that of the main source, consistent with Section 110(l) of the CAA. This revision became State effective on April 19, 2006.

b. 391-3-1-.03(6)(j) “Construction Permit Exemption for Pollution Control Projects”

Georgia is adding a new subparagraph (j) relating to “Exemptions.” The revision adds an exemption for pollution control projects from the requirement to obtain a construction permit, under GA EPD's minor new source permitting regulations. This rule applies to minor sources only, and limits any emissions increases from the pollution control project to below the major source threshold for all pollutants. A project subject to major new source review permitting does not qualify for this exemption. EPA is approving the revised permit exemption, as emissions may not exceed the limits set for major sources, and is consistent with Section 110 of the CAA. This revision became State effective on July 13, 2006.

2. 391-3-1-.03(11) “Permit by Rule”

a. 391-3-1-.03(11)(b)3(i) “Permit by Rule Standards”

Georgia is revising subparagraph (b)3(i) to clarify the language for the specific equipment covered by the permit-by-rule for on-site power generation. Specifically, the language “fuel-burning equipment” is being replaced by “internal combustion engines,” to best describe the equipment. This rule revision is being approved to more clearly define the equipment named in this subparagraph, and is consistent with Section 110 of the CAA. The rule became State effective on July 20, 2005.

b. 391-3-1-.03(11)(b)5(i) “Permit by Rule Standards”

Georgia is amending subparagraph (b)5(i) to clarify the specific equipment covered by permit-by-rule for hot mix asphalt plants. Specifically, the language “with external combustion fuel-burning equipment rated as less than or equal to 100 million BtU per hour” is replaced by “hot mix asphalt facilities,” to best describe the facilities. This rule revision is being approved to more clearly define the equipment named in this subparagraph, and is consistent with Section 110 of the CAA. The revision became State effective on July 20, 2005.

Rule 391-3-1-.05 “Regulatory Exceptions”

Georgia is repealing Rule 391-3-1-.05 “Regulatory Exceptions” on the basis that it is unnecessary and non-mandatory. The basis of the rule was to allow the Director of GA EPD to grant exceptions to particular requirements of any rule or regulation. In order for a regulatory exception to be granted, it must first be submitted to EPA, and approved as a SIP revision. Therefore, this rule is repealed in its entirety. The repeal of this revision is being approved, as any regulatory exception must first be submitted to EPA for approval, pursuant to Section 110 of the CAA. This revision became State effective on July 13, 2006.

III. Final Action

EPA is taking direct final action to approve the aforementioned revisions, specifically, Air Quality Rules Chapter 391-3-1, into the Georgia SIP. The revision was submitted by GA EPD on September 26, 2006, with a clarifying revision submitted on November 6, 2006. These revisions meet CAA requirements and are consistent with EPA policy and regulations.

EPA is publishing this rule without prior proposal because the Agency views these as noncontroversial submittals and anticipates no adverse comments. However, in the proposed rules section of this Federal Register publication, EPA is publishing a separate document that will serve as the proposal to approve the SIP revisions should adverse comments be filed. This rule will be effective April 12, 2010 without further notice unless the Agency receives adverse comments by March 11, 2010.

If EPA receives such comments, then EPA will publish a document withdrawing the final rule and informing the public that the rule will not take effect. All public comments received will then be addressed in a subsequent final rule based on the proposed rule. EPA will not institute a second comment period. Parties interested in commenting should do so at this time. If no such comments are received, the public is advised that this rule will be effective on April 12, 2010 and no further action will be taken on the proposed rule. Please note that if we receive adverse comment on an amendment, paragraph, or section of this rule and if that provision may be severed from the remainder of the rule, we may adopt as final those provisions of the rule that are not the subject of an adverse comment.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 12, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2)).

List of Subjects in 40 CFR Part 52

Environmental protection, Air pollution control, Carbon monoxide, Incorporation by Reference, Intergovernmental relations, Nitrogen dioxide, Ozone, Particulate matter, Reporting and recordkeeping requirements, Sulfur oxides, Volatile organic compounds.

Dated: December 11, 2009.
Beverly H. Banister,
Acting Regional Administrator, Region 4.

40 CFR part 52 is amended as follows:

PART 52—[AMENDED]

1. The authority citation for part 52 continues to read as follows:

Authority: 42 U.S.C. 7401 et seq.

Subpart L—Georgia

2. Section § 52.570(c) is amended by

a. Revising the entries for “391-3-1-.01, and “391-3-1-.02(2)(d),” “391-3-1-.02(2)(tt),” “391-3-1-.02(2)(yy),” “391-3-1-.02(2)(rrr),” “391-3-1-.02(4),” “391-3-1-.02(5),” and “391-3-1-.03;”

b. Removing the entry for “391-3-1-.05,” to read as follows:

§ 52.570 Identification of plan.

* * * * *

(c) * * *

EPA Approved Georgia Regulations
State citation | Title/subject | State effective date | EPA approval date | Explanation
391-3-1-.01 | Definitions | 7/13/06 | 2/9/09 [Insert citation of publication] |
* * * * * * *
391-3-1-.02(2)(d) | Fuel-burning Equipment | 7/20/05 | 2/9/09 [Insert citation of publication] |
* * * * * * *
391-3-1-.02(2)(tt) | VOC Emissions from Major Sources | 1/9/05 | 2/9/09 [Insert citation of publication] |
* * * * * * *
391-3-1-.02(2)(yy) | Emissions of Nitrogen Oxides from Major Sources | 1/9/05 | 2/9/09 [Insert citation of publication] |
* * * * * * *
391-3-1-.02(2)(rrr) | NOX Emissions from Small Fuel-Burning Equipment | 3/27/06 | 2/9/09 [Insert citation of publication] |
* * * * * * *
391-3-1-.02(4) | Ambient Air Standards | 1/9/05 | 2/9/09 [Insert citation of publication] |
391-3-1-.02(5) | Open Burning | 7/13/06 | 2/9/09 [Insert citation of publication] |
* * * * * * *
391-3-1-.03 | Permits | 7/13/06 | 2/9/09 [Insert citation of publication] |
* * * * * * *
391-3-1-.05 | Repealed | 7/13/06 | 2/9/09 [Insert citation of publication] |
* * * * * * *

* * * * *

[FR Doc. 2010-2706 Filed 2-8-10; 8:45 am]

BILLING CODE 6560-50-P